DEPARTMENT OF COMMERCE

International Trade Administration

[A-560-826]

Monosodium Glutamate From the Republic of Indonesia: Final Results of Changed Circumstances Review

AGENCY: Enforcement and Compliance, International Trade Administration, Department of Commerce.

SUMMARY: On July 6, 2022, the U.S. Department of Commerce (Commerce) published its notice of initiation and preliminary results of a changed circumstances review (CCR) of the antidumping duty (AD) order on monosodium glutamate (MSG) from the Republic of Indonesia (Indonesia). For these final results, Commerce finds that PT. Daesang Ingredients Indonesia (PT. Daesang) is the successor-in-interest to PT. Miwon Indonesia (PT. Miwon) and should be assigned the same AD cash deposit rate for purposes of determining AD liability.

DATES: Applicable August 26, 2022.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Background

On March 10, 2022, PT. Daesang requested that Commerce conduct an expedited CCR to find that PT. Daesang is the successor-in-interest to PT. Miwon.¹ On July 6, 2022, Commerce initiated a CCR and preliminarily determined that PT. Daesang is the successor-in-interest to PT. Miwon.² In the Initiation and Preliminary Results, we provided all interested parties with an opportunity to comment.³ We received no comments from any interested party.

¹ See PT. Daesang's Letter, “Monosodium Glutamate (MSG) from Indonesia: Request to Initiate a Successor-in-Interest Changed Circumstances Review for PT. Daesang Ingredients Indonesia,” dated March 10, 2022.

² See Monosodium Glutamate from the Republic of Indonesia: Notice of Initiation and Preliminary Results of Changed Circumstances Review, 87 FR 40182 (July 6, 2022) (Initiation and Preliminary Results), and accompanying Preliminary Decision Memorandum.

³ Id., 87 FR at 40183.

Scope of the Order ⁴

⁴ See Monosodium Glutamate from the People's Republic of China, and the Republic of Indonesia: Antidumping Duty Orders; and Monosodium Glutamate from the Republic of China: Amended Final Determination of Sales at Less Than Fair Value, 79 FR 70505 (November 26, 2014) (Order).

The merchandise covered by the Order is MSG, whether or not blended or in solution with other products. Specifically, MSG that has been blended or is in solution with other product(s) is included in the Order when the resulting mix contains 15 percent or more of MSG by dry weight. Products with which MSG may be blended include, but are not limited to, salts, sugars, starches, maltodextrins, and various seasonings. Further, MSG is included in the Order regardless of physical form (including, but not limited to, in monohydrate or anhydrous form, or as substrates, solutions, dry powders of any particle size, or unfinished forms such as MSG slurry), end-use application, or packaging.

MSG in monohydrate form has a molecular formula of C5H8NO4Na-H2O, a Chemical Abstract Service (CAS) registry number of 6106-04-3, and a Unique Ingredient Identifier (UNII) number of W81N5U6R6U. MSG in anhydrous form has a molecular formula of C5H8NO4 Na, a CAS registry number of l42-47-2, and a UNII number of C3C196L9FG.

Merchandise covered by the Order is currently classified in the Harmonized Tariff Schedule of the United States (HTSUS) at subheading 2922.42.10.00. Merchandise covered by the Order may also enter under HTSUS subheadings 2922.42.50.00, 2103.90.72.00, 2103.90.74.00, 2103.90.78.00, 2103.90.80.00, and 2103.90.90.91. These tariff classifications, CAS registry numbers, and UNII numbers are provided for convenience and customs purposes; however, the written description of the scope is dispositive.

Final Results of Changed Circumstances Review

Because the record contains no information or evidence that calls into question the Initiation and Preliminary Results, and because we received no comments from interested parties to the contrary, for the reasons stated in the Initiation and Preliminary Results,⁵ Commerce finds that PT. Daesang is the successor-in-interest to PT. Miwon.

⁵ For a complete discussion of the information that PT. Daesang provided, including business proprietary information, and Commerce's complete successor-in-interest analysis, see the Initiation and Preliminary Results Preliminary Decision Memorandum.

Instructions to U.S. Customs and Border Protection

As a result of these final results and consistent with established practice, we find that, as the successor-in-interest to PT. Miwon, entries of MSG from Indonesia produced and/or exported by PT. Daesang should be subject to the cash deposit rate previously assigned to PT. Miwon. Commerce will instruct U.S. Customs and Border Protection to suspend liquidation of all shipments of subject merchandise produced and/or exported by PT. Daesang and entered, or withdrawn from warehouse, for consumption on or after the publication date of this notice in the Federal Register at 1.60 percent, which is the current AD cash deposit rate in effect for subject merchandise produced and/or exported by PT. Miwon.⁶ This cash deposit rate shall remain in effect until further notice.

⁶ See Monosodium Glutamate from the Republic of Indonesia: Final Results of Antidumping Duty Administrative Review; 2019-2020, 87 FR 18767 (March 31, 2022).

Administrative Protective Order

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

We are issuing and publishing these final results in accordance with sections 751(b)(1) and 777(i)(1) of the Tariff Act of 1930, as amended, and 19 CFR 351.216(e), 19 CFR 351.221(b), and 19 CFR 351.221(c)(3).

Dated: August 22, 2022.
Lisa W. Wang,
Assistant Secretary for Enforcement and Compliance.

[FR Doc. 2022-18473 Filed 8-25-22; 8:45 am]

BILLING CODE 3510-DS-P